FEDERAL COMMUNICATIONS COMMISSION

47 CFR Parts 0, 1, and 54

[CC Docket No. 02-6; FCC 04-190]

Schools and Libraries Universal Service Support Mechanism

AGENCY: Federal Communications Commission.

ACTION: Final rule, correction.

SUMMARY: This document corrects an error in the dates and final rules sections of a Federal Register document regarding the Commission adopting measures to protect against waste, fraud, and abuse in the administration of the schools and libraries universal service support mechanism. In addition, the Commission resolved a number of issues that have arisen from audit activities conducted as part of ongoing oversight over the administration of the universal service fund, and the Commission addressed programmatic concerns raised by our Office of Inspector General. The summary was published in the Federal Register on September 13, 2004.

DATES: Effective October 4, 2004.

FOR FURTHER INFORMATION CONTACT: Jennifer Schneider, Attorney, Telecommunications Access Policy Division, Wireline Competition Bureau, (202) 418-7400.

SUPPLEMENTARY INFORMATION: This summary contains a correction to the dates and final rules sections of a Federal Register summary, 69 FR 55097 (September 13, 2004). The full text of the Commission's Fifth Report and Order and Order in CC Docket No. 02-6, FCC 04-190 released on August 13, 2004 is available for public inspection during regular business hours in the FCC Reference Center, Room CY-A257, 445 Twelfth Street, SW., Washington, DC 20554.

In rule FR Doc. 04-20363 published September 13, 2004 (69 FR 55097) make the following corrections.

1. On page 55097, in the second column, in the dates section, remove “54.504(f)” and add in its place “54.504(h).”

PART 54—[CORRECTED]

2. On page 55109, in the third column, in paragraph 8, third line, remove “(f)” and add in its place “(h).”

§ 54.504 [Corrected]

3. On page 55110, in the third column, in the twentieth line, remove “(f)” and add in its place “(h).”

4. On page 55110, in the third column, in paragraph 9, remove “E” and add in its place “F.”

Federal Communications Commission.
Marlene H. Dortch,
Secretary.

[FR Doc. 04-22228 Filed 10-1-04; 8:45 am]

BILLING CODE 6712-01-P